DEPARTMENT OF ENERGY

Federal Energy Regulatory Commission

[Project No. 12714-003]

H2O Holdings, LLC; Notice of Preliminary Permit Application Accepted for Filing and Soliciting Comments, Motions To Intervene, and Competing Applications

On August 14, 2013, H2O Holdings, LLC filed an application for a preliminary permit, pursuant to section 4(f) of the Federal Power Act, proposing to study the feasibility of the Phantom Canyon/South Slope Pumped Storage Project, located on Phantom Creek, near Canon City, in Fremont, Pueblo, and El Paso Counties, Colorado. The project would occupy federal lands administered by the U.S. Bureau of Land Management. The final transmission line corridor is still under evaluation, but portions may occupy federal lands administered by the U.S. Department of the Army. The sole purpose of a preliminary permit, if issued, is to grant the permit holder priority to file a license application during the permit term. A preliminary permit does not authorize the permit holder to perform any land disturbing activities or otherwise enter upon lands or waters owned by others without the owners' express permission.

The proposed South Slope Pumped Storage Project would consist of: (1) An upper power reservoir with a storage capacity of approximately 6,000 acre-feet, retained by a new 180-foot-high, 4,925-foot-long concrete-faced earth embankment; (2) a lower reservoir with a power storage capacity of about 6,400 acre-feet and a reserve capacity for non-project use of about 44,600 acre-feet, retained by building three new dams and a 150-foot long and 24-foot-high saddle dike (dam no. 1 would be 6,635 feet long and 140 feet high, dam no. 2 would be 2,710 feet long and 140 feet high, and dam no. 3 would be 2,200 feet long and 620 feet high); (3) twin 22-foot-diameter, steel penstocks, each about 7,150 feet long, both bifurcating at the powerhouse; (4) a concrete and steel powerhouse with four 110-megawatt (MW) units, for a total capacity of 440 MW; (5) four welded-steel tailraces connecting the powerhouse units and the lower power reservoir; (6) a 30-mile-long, 230-kilovolt transmission line; (7) a 5-foot-diameter, 5.5-mile-long non-project pipeline to provide water to the lower reservoir from the Lester Atterbury Ditch diversion on the north side of the Arkansas River; and (8) appurtenant facilities. The proposed project would have an average annual generation of 1,194,864 megawatt-hours.

Applicant Contacts: Ms. Joy Focht, H2O Holdings, LLC, 1485 Garden of the Gods Rd., Ste. 160, Colorado Springs, CO 80907; telephone: (719) 473-7763 (ext. 202) and Mr. Sam Houston, H2O Holdings, LLC, 1485 Garden of the Gods Rd., Ste. 160, Colorado Springs, CO 80907; telephone: (970) 948-7300.

FERC Contact: Jim Fargo, (202) 502-6095 or via email at james.fargo@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12714-003.

More information about this project, including a copy of the application, can be viewed or printed on the “eLibrary” link of Commission's Web site at http://www.ferc.gov/docs-filing/elibrary.asp. Enter the docket number (P-12714) in the docket number field to access the document. For assistance, contact FERC Online Support.

Dated: September 26, 2013.
Nathaniel J. Davis, Sr.,
Deputy Secretary.

[FR Doc. 2013-24380 Filed 10-4-13; 8:45 am]

BILLING CODE 6717-01-P